DEPARTMENT OF ENERGY

Federal Energy Regulatory Commission

Combined Notice of Filings #1

Take notice that the commission received the following accounting Request filings:

Docket Numbers: AC25-129-000.

Applicants: Dominion Energy Services, Inc.

Description: Virginia Electric and Power Company, Inc., dba Dominion Energy Virginia submits requests for approval to use Account 439, to record a one-time cumulative effect adjustment, etc.

Filed Date: 9/25/25.

Accession Number: 20250925-5084.

Comment Date: 5 p.m. ET 10/16/25.

Take notice that the Commission received the following electric rate filings:

Docket Numbers: ER20-2845-004; ER25-1104-001; ER20-1657-003; ER20-2846-004; ER18-315-004.

Applicants: Wildwood Lessee, LLC, Mechanicsville Lessee, LLC, Mechanicsville Solar, LLC, Aulander Holloman Solar, LLC, Albemarle Beach Solar, LLC.

Description: Supplement to 04/30/2025, Notice of Non-Material Change in Status of Albemarle Beach Solar, LLC, et al.

Filed Date: 9/23/25.

Accession Number: 20250923-5100.

Comment Date: 5 p.m. ET 10/14/25.

Docket Numbers: ER23-696-002.

Applicants: PJM Interconnection, L.L.C.

Description: Tariff Amendment: Amendment to Service Agreement No. 6717; Queue No. NQ182 to be effective 11/25/2025.

Filed Date: 9/25/25.

Accession Number: 20250925-5051.

Comment Date: 5 p.m. ET 10/16/25.

Docket Numbers: ER23-1905-002.

Applicants: PJM Interconnection, L.L.C.

Description: Tariff Amendment: Amendment to Service Agreement No. 6914; Queue No. NQ178 to be effective 11/25/2025.

Filed Date: 9/25/25.

Accession Number: 20250925-5049.

Comment Date: 5 p.m. ET 10/16/25.

Docket Numbers: ER24-1868-002.

Applicants: El Paso Electric Company.

Description: Compliance filing: OATT Revisions—Attachment M and N to be effective 6/3/2024.

Filed Date: 9/25/25.

Accession Number: 20250925-5108.

Comment Date: 5 p.m. ET 10/16/25.

Docket Numbers: ER24-2033-002.

Applicants: GridLiance High Plains LLC.

Description: Compliance filing: GHP Order 2023 Further Compliance Filing to be effective 9/1/2024.

Filed Date: 9/25/25.

Accession Number: 20250925-5047.

Comment Date: 5 p.m. ET 10/16/25.

Docket Numbers: ER24-2034-002.

Applicants: GridLiance Heartland LLC.

Description: Compliance filing: GLH Order 2023 Further Compliance Filing to be effective 9/1/2024.

Filed Date: 9/25/25.

Accession Number: 20250925-5048.

Comment Date: 5 p.m. ET 10/16/25.

Docket Numbers: ER25-2512-000.

Applicants: Faraday Solar B LLC.

Description: Supplement to 06/13/2025, ER25-2512-000 tariff filing.

Filed Date: 9/12/25.

Accession Number: 20250912-5117.

Comment Date: 5 p.m. ET 9/30/25.

Docket Numbers: ER25-2865-001.

Applicants: California Independent System Operator Corporation.

Description: Tariff Amendment: 2025-09-25 Deficiency Response—LGIA btwn CAISO, Arlington & SDG&E—Saddle Mtn to be effective 9/15/2025.

Filed Date: 9/25/25.

Accession Number: 20250925-5101.

Comment Date: 5 p.m. ET 10/16/25.

Docket Numbers: ER25-2996-000; ER25-3000-000.

Applicants: Ninnescah Wind Renewables, LLC, Kingman Wind I, LLC.

Description: Supplement to 07/28/2025, Kingman Wind I, LLC et al. tariff filing.

Filed Date: 9/25/25.

Accession Number: 20250925-5032.

Comment Date: 5 p.m. ET 10/6/25.

Docket Numbers: ER25-2998-000.

Applicants: Kingman Wind II, LLC.

Description: Supplement to 07/28/2025 Kingman Wind II, LLC, tariff filing.

Filed Date: 9/25/25.

Accession Number: 20250925-5033.

Comment Date: 5 p.m. ET 10/6/25.

Docket Numbers: ER25-2999-000; ER25-3001-000.

Applicants: Freepoint Energy Solutions LLC, Freepoint Commodities LLC.

Description: Supplement to 07/28/2025, Freepoint Commodities LLC, et al. tariff filing.

Filed Date: 9/25/25.

Accession Number: 20250925-5106.

Comment Date: 5 p.m. ET 10/16/25.

Docket Numbers: ER25-3162-001.

Applicants: Southwest Power Pool, Inc.

Description: Tariff Amendment: 1768R2 American Electric Power Service Corporation NITSA NOA Motion for Deferral to be effective 12/31/9998.

Filed Date: 9/25/25.

Accession Number: 20250925-5029.

Comment Date: 5 p.m. ET 10/16/25.

Docket Numbers: ER25-3506-000.

Applicants: SF Aggregator, LLC.

Description: 205(d) Rate Filing: Market-Based Rate Application to be effective 11/24/2025.

Filed Date: 9/24/25.

Accession Number: 20250924-5142.

Comment Date: 5 p.m. ET 10/15/25.

Docket Numbers: ER25-3507-000.

Applicants: Ingenco Wholesale Power, L.L.C.

Description: Tariff Amendment: Notice of Cancellation—Rate Schedule FERC No. 1, Reactive Power Compensation to be effective 9/25/2025.

Filed Date: 9/25/25.

Accession Number: 20250925-5000.

Comment Date: 5 p.m. ET 10/16/25.

Docket Numbers: ER25-3508-000.

Applicants: Southwest Power Pool, Inc.

Description: 205(d) Rate Filing: 3927R2 SWEPCO GIA to be effective 9/17/2025.

Filed Date: 9/25/25.

Accession Number: 20250925-5005.

Comment Date: 5 p.m. ET 10/16/25.

Docket Numbers: ER25-3509-000.

Applicants: American Transmission Systems, Incorporated.

Description: 205(d) Rate Filing: ATSI submits amnded Construction Agmt SA No. 6943 to be effective 11/25/2025.

Filed Date: 9/25/25.

Accession Number: 20250925-5023.

Comment Date: 5 p.m. ET 10/16/25.

Docket Numbers: ER25-3510-000.

Applicants: PJM Interconnection, L.L.C.

Description: 205(d) Rate Filing: NSA, Original Service Agreement No. 7753; Queue No. AF1-134 to be effective 11/25/2025.

Filed Date: 9/25/25.

Accession Number: 20250925-5026.

Comment Date: 5 p.m. ET 10/16/25.

Docket Numbers: ER25-3511-000.

Applicants: Southwest Power Pool, Inc.

Description: 205(d) Rate Filing: 3878R1 States Edge Wind I GIA to be effective 9/15/2025.

Filed Date: 9/25/25.

Accession Number: 20250925-5036.

Comment Date: 5 p.m. ET 10/16/25.

Docket Numbers: ER25-3512-000.

Applicants: Southwest Power Pool, Inc.

Description: 205(d) Rate Filing: 3879R1 States Edge Wind I GIA to be effective 9/15/2025.

Filed Date: 9/25/25.

Accession Number: 20250925-5037.

Comment Date: 5 p.m. ET 10/16/25.

Docket Numbers: ER25-3513-000.

Applicants: Southwest Power Pool, Inc.

Description: 205(d) Rate Filing: 3880R1 States Edge Wind I GIA to be effective 9/15/2025.

Filed Date: 9/25/25.

Accession Number: 20250925-5040.

Comment Date: 5 p.m. ET 10/16/25.

Docket Numbers: ER25-3514-000.

Applicants: Midcontinent Independent System Operator, Inc.

Description: 205(d) Rate Filing: 2025-09-25_SA 4557 Ameren Missouri-Ameren Missouri GIA (R1047) to be effective 9/17/2025.

Filed Date: 9/25/25.

Accession Number: 20250925-5042.

Comment Date: 5 p.m. ET 10/16/25.

Docket Numbers: ER25-3515-000.

Applicants: Entergy Louisiana, LLC, Entergy Mississippi, LLC, Entergy New Orleans, LLC, Entergy Arkansas, LLC.

Description: Tariff Amendment: Entergy Arkansas, LLC submits tariff filing per 35.15: EAL Cancellation of GG Power Purchase Agreements to be effective 10/1/2025.

Filed Date: 9/25/25.

Accession Number: 20250925-5058.

Comment Date: 5 p.m. ET 10/16/25.

Docket Numbers: ER25-3516-000.

Applicants: Entergy Louisiana, LLC.

Description: Tariff Amendment: ELL Cancellation of EML GGNS PPA to be effective 10/1/2025.

Filed Date: 9/25/25.

Accession Number: 20250925-5060.

Comment Date: 5 p.m. ET 10/16/25.

Docket Numbers: ER25-3517-000.

Applicants: AEP Texas Inc.

Description: 205(d) Rate Filing: AEPTX-TNMP (Rio Pecos) First Amended Facilities Development Agreement to be effective 9/16/2025.

Filed Date: 9/25/25.

Accession Number: 20250925-5062.

Comment Date: 5 p.m. ET 10/16/25.

Docket Numbers: ER25-3518-000.

Applicants: Tri-State Generation and Transmission Association, Inc.

Description: 205(d) Rate Filing: Amendment to Rate Schedule FERC No. 6 to be effective 11/25/2025.

Filed Date: 9/25/25.

Accession Number: 20250925-5073.

Comment Date: 5 p.m. ET 10/16/25.

Docket Numbers: ER25-3519-000.

Applicants: Pacific Gas and Electric Company.

Description: 205(d) Rate Filing: TO SA 343: SVP WPA for Kifer Receiving Station to be effective 9/26/2025.

Filed Date: 9/25/25.

Accession Number: 20250925-5089.

Comment Date: 5 p.m. ET 10/16/25.

Docket Numbers: ER25-3520-000.

Applicants: Upper Missouri G. & T. Electric Cooperative, Inc.

Description: 205(d) Rate Filing: Revised Rate Schedules FERC Nos. 7 and 11 to be effective 11/1/2025.

Filed Date: 9/25/25.

Accession Number: 20250925-5096.

Comment Date: 5 p.m. ET 10/16/25.

Docket Numbers: ER25-3521-000.

Applicants: Duke Energy Indiana, LLC.

Description: 205(d) Rate Filing: DEI-IN Solar 1, LLC—Rate Schedule No. 287 to be effective 11/1/2025.

Filed Date: 9/25/25.

Accession Number: 20250925-5121.

Comment Date: 5 p.m. ET 10/16/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: September 25, 2025.
Carlos D. Clay,
Deputy Secretary.

[FR Doc. 2025-18978 Filed 9-29-25; 8:45 am]

BILLING CODE 6717-01-P